DEPARTMENT OF AGRICULTURE

Forest Service

RIN 0596-AB90

Forest Transportation System Analysis; Roadless Area Protection

AGENCY: Forest Service, USDA.

ACTION: Notice of interim administrative directives, request for comment.

SUMMARY: On January 12, 2001, corollary with revisions to the Forest Transportation System rules at 36 CFR part 212, the Forest Service adopted a revised administrative policy to guide transportation planning, analysis, and management, especially road management in the National Forest System. One element of that policy authorized road construction and reconstruction in inventoried roadless areas and contiguous unroaded areas only if the Regional Forester determined that the project met a compelling need, a roads analysis was conducted, and an EIS prepared. The interim requirements were to remain in effect until each unit completed a forest-scale roads analysis and forest plan review, amendment, or revision. Following extensive roads analysis implementation training and field review of the entire road management policy, new Interim Directives (ID's) to Forest Service Manual Chapters 1920 and 7710 have been issued. These ID's streamline, clarify, and consolidate, with related planning direction, the inventoried roadless area interim requirements. The new ID to FSM 7710 also clarifies the flexibility of line officers in determining the application of the roads analysis process. The intended effect is to improve the agency's ability to implement these policies consistently and to stabilize roadless area management. Comments are invited and will be considered in adoption of final revised directives.

DATES: Interim Directive Nos. 1920-2001-1 and 7710-2001-3 were effective December 14, 2001. Comments must be submitted in writing on or before February 19, 2002.

ADDRESSES: Written comments concerning these Interim Directives should be sent to USFS CAT, Attention: Road Policy, P.O. Box 221150, Salt Lake City, UT, 84122; via e-mail to roads_id@fs.fed.us; or via facsimile to USFS CAT, Attention: Road Policy, at 801-517-1021.

FOR FURTHER INFORMATION CONTACT: Questions about this action should be addressed to Mike Ash, Deputy Director of Engineering, 703-605-4646, or Heidi Valetkevitch, Office of Communications, 202-205-0914.

SUPPLEMENTARY INFORMATION:

Contents

• Background

• Revisions to Road Management Directives

• Regulatory Certifications

• Conclusion

• Revisions to Forest Service Road Mangement Directives

• Inventoried Roadless Areas

Background

The Forest Service Road Management Strategy adopted January 12, 2001, (66 FR 3219) consisted of revisions to the rules governing the Forest Transportation System at 36 CFR part 212 and revisions of the agency's administrative directives on the transportation system in Forest Service Manual (FSM) Chapter 7700 Zero Code and Chapter 7710, transportation atlas, records, and analysis. The rule directs the Responsible Official of each National Forest, Grassland, or other unit of the National Forest System to perform a comprehensive analysis of the road system within the unit and to document the overall forest transportation system in a transportation atlas.

Issued concurrently with the final rule, the Forest Service administrative directives to FSM Chapter 7710 established standards for creation of the road atlas and for determining the scope and scale of roads analyses needed to inform road management decisions; that is, road construction, reconstruction, or decommissioning. Additionally, the revision of Forest Service Manual Chapter 7710 included interim requirements that, rather than addressing the transportation atlas, record, or analysis, imposed a significant restriction on road construction or reconstruction in inventoried roadless areas and contiguous unroaded areas until a forest-scale roads analysis was completed and incorporated into the Forest plan.

Upon adoption of the road management rule and directives in January 2001, the Forest Service began extensive implementation training on application of the science-based roads analysis process mandated by FSM 7712.1; on creating the road atlas; and on complying with the other elements of the road management directives. Since the training began, many Forest Service transportation managers have informed the Chief's office that the deadlines for compliance are unworkable, considering the level of detail and the variety of information required and the amount of training necessary before the analysis can begin. Moreover, conducting the newly required roads analysis has, in some cases, conflicted with seasonal workload demands, especially in light of the need for restoration work after last year's devastating fire season. Additionally, pursuant to a late January memorandum from the President's Chief of Staff to cabinet members, the Secretary of Agriculture began a review of the roadless area rule, also adopted on January 12, 2001, and the Chief of the Forest Service undertook a review of the road management policy. These reviews have led the agency to initiate several Interim Directives (ID's).

The first Interim Directive (ID No. 7710-2001-1, issued May 31, 2001) reflected the Chief's goal of encouraging and relying on local expertise and authority over forest-level issues as much as possible. As adopted January 12, 2001, Forest Service Manual section 7712.15, paragraph 2a, (FSM 7712.15, para. 2a,) required, with some exceptions, all units to complete a forest-scale roads analysis by January 13, 2003. Further, under paragraph 2b, of this section, only the Chief could approve an extension. Recognizing that Regional Foresters are better informed of particular management challenges facing individual national forests and grasslands and their annual programs of work, ID No. 7710-2001-1 (May 31, 2001) delegated the authority to extend the deadline for completing the forest-scale roads analysis to Regional Foresters. Secondly, in response to field concerns about the impending July 12 deadline by which all road management decisions must be informed by a roads analysis, ID No. 7710-2001-1 extended the deadline to January 12, 2002. Notice of the May 31 ID was published in the Federal Register on August 24, 2001 (66 FR 44590), with a request for comment.

The Chief announced in a June 7, 2001, letter the importance of managing and protecting inventoried roadless areas as an important component of the National Forest System and that he would reserve the authority to make decisions, except in specific circumstances, regarding road management activities and timber harvesting in those areas. Two Interim Directives, ID No. 7710-2001-2 and ID No. 2400-2001-3, were issued on July 27, 2001, to implement the Chief's announcement.

In a letter to Regional Foresters dated June 12, 2001, the Deputy Chief for National Forest Systems, noting the Chief's June 7, announcement, asked Regional Foresters and Forest Supervisors to review the road management policy to identify any provisions that they believe should be revised.

Responses from field units to the Deputy Chief's June 12 letter included the following recommendations:

1. Retain the rule revisions at 36 CFR part 212 without change, as there are no burdensome or confusing provisions in the rule and FSM Chapter 7700 Zero Code or this directive;

2. Allow for decisions to be made as close to the ground as practicable;

3. Clarify the local manager's flexibility and discretion to conduct roads analysis for proposed actions (FSM Chapter 7710); and

4. Limit the scope of the interim requirements (FSM 7712.16) to inventoried roadless areas, because of the ambiguities of identifying and mapping contiguous unroaded areas as described in FSM 7712.16 and because some of the maps of inventoried roadless areas cover some contiguous unroaded lands.

In addition to these recommendations, the Forest Service recognized that the incremental issuance of directives on road management and roadless areas had caused confusion for some employees and the public alike and, therefore, that the agency needed to consolidate earlier directives in a way that clarified intent.

Revisions to Road Management Directives

The review of the road management policy has resulted in the issuance of two new Interim Directives—one to FSM Chapter 7710—Transportation Atlas, Records, and Analysis, and another to FSM Chapter 1920—Land and Resource Management Planning. The changes related to the interim requirements are explained first, followed by identification of other changes to Chapter 7710.

• Interim Requirements (FSM 7712.16-7712.16d). When Chapter 7710 was adopted in January 2001, it included a new section 7712.16 entitled “Interim Requirements for Road Construction/Reconstruction in Inventoried Roadless and Contiguous Unroaded Areas.” This section was based on a similar section, entitled “Transition Procedures,” in the proposed policy published March 3, 2000, in Part III of the Federal Register (65 FR 11676-11693). This section of the proposed policy was controversial and was substantially revised in the final directive, both to strengthen restrictions on entering these areas and to clarify the agency's intent.

As adopted, January 12, 2001, the interim requirements set out in FSM 7712.16-7712.16d provided the following:

1. Road construction or reconstruction in inventoried roadless areas and contiguous unroaded areas could not be authorized unless there was a compelling need for the activity; an Environmental Impact Statement was prepared; a science-based roads analysis was conducted on the proposal; and the Regional Forester served as the Responsible Official.

2. Examples of compelling needs for roads were provided. Additionally, the Regional Forester for the Alaska Region was given authority to determine that meeting market demand for timber from the Tongass National Forest constitutes a compelling need.

3. Environmental mitigation or restoration activities on unclassified roads were appropriate but not reconstruction and maintenance of unclassified roads.

4. Certain road management actions were exempted from the interim requirements:

a. Roads needed for public health and safety in cases of imminent threat of catastrophic events threatening loss of life or property;

b. Roads needed to conduct a response action under the Comprehensive Environmental Response, Compensation, and Liability Act (CERCLA) or to conduct a natural resource restoration under CERCLA, the Clean Water Act, or Oil Pollution Act; and

c. Road construction needed in conjunction with the continuation, extension, or renewal of an existing mineral lease or issuance of a new lease upon expiration of an existing lease.

Based on the internal review of the road management direction (FSM 7712.16-7712.16d), the agency has made several modifications to the interim requirements.

1. Contiguous Unroaded Areas. Given the difficulty of identifying contiguous unroaded areas, the agency has concluded that the interim requirements of FSM 7712.16b could be interpreted as preventing the agency from undertaking any road management activity within proximity of an inventoried roadless area. This ambiguity would lead to confusion and inconsistencies across the agency. Moreover, the protection of unroaded values should not be determined solely on the basis of acreage, which is the approach adopted in the January directive. Instead, the boundaries of unroaded areas should be based on conditions and characteristics of the landscape and identified within the context of land and resource management planning. The agency already has a regulatory requirement to review inventoried roadless areas during the forest plan revision process. At that time, the Responsible Official determines the need to add contiguous land or to subtract from previously identified inventoried roadless areas and establishes their management direction. For all these reasons, the agency has removed “contiguous unroaded areas” from the interim requirements.

2. EIS Requirement. The agency also has dropped the requirement for an Environmental Impact Statement (EIS) for road management activities proposed in inventoried roadless areas. The National Environmental Planning Act (NEPA) rules and procedures established by the Council on Environmental Quality (CEQ) govern the level of analysis required when the agency considers proposed actions. Briefly, under the Act and CEQ regulations, it is the nature of a proposed action that determines the environmental analysis and documentation required. A blanket requirement for an EIS would result in needless expenditures of public resources in those cases where only minor surface disturbance would occur. In fact, in the course of the agency's review of the interim requirements, a number of forests reported situations where a new road or road reconstruction would traverse a quarter mile or less of roadless areas and, therefore, require preparation of an EIS, even though the effects would be so minimal as to be sufficiently disclosed in an Environmental Assessment. Several of these situations were reported to be impeding access to oil and gas leasing or other mining operations.

Removal of the EIS requirement does not reduce the agency's environmental analysis and disclosure obligation. The Forest Service has a directive provision that requires preparation of an EIS whenever any activity would substantially alter the character of an inventoried roadless area (FSH 1909.15, sec. 20.6). All projects remain subject to NEPA requirements. Involvement by the public, States, Tribes, and other interested parties will continue to help identify the issues to be addressed related to inventoried roadless areas, and issues associated with roadless values will continue to be addressed through roads analysis and compliance with regulations and procedures of NEPA, 40 CFR part 1500-1508, and Forest Service Handbook 1909.15.

3. Relocation of Interim Requirements. In addition to the preceding modifications, the agency has concluded that the interim requirements should be removed from Chapter 7710 because the primary focus of Chapter 7710 is on transportation records and analysis, not protection of special areas. Consequently, the modified interim requirements have been moved to a new section 1925 in the planning chapter of the Forest Service Manual (FSM Chapter 1920) to provide guidance for addressing road management activities until land management plans are amended or revised. With this change, Chapter 7710 now focuses appropriately on transportation analysis needed to make better decisions about the scope and funding of the transportation network on each National Forest, Grassland, and Prairie. This relocation of the interim requirements to Chapter 1920 remains consistent with the agency's intent in adopting the final road management directive in January 2001. As explained in the January Federal Register notice, the agency retained the transition procedures of the proposed policy (renamed “interim requirements” in the final directive) to ensure that the “values associated with inventoried roadless and contiguous unroaded areas are fully considered within the context of forest planning” (66 FR 3226, Col. 3).

Therefore, simultaneously with issuance of the latest ID No. 7710-2001-3, the agency has issued Interim Directive No. 1920-2001-1 to consolidate the direction on inventoried roadless areas. This ID establishes a policy of protecting the values of these areas and restricts entry for road management activities or timber harvest until a forest scale roads analysis is incorporated into the forest plan. ID No. 1920-2001-1 also incorporates the protections for roadless areas announced by the Chief on June 7, 2001, which were issued in ID Nos. 7710-2001-2 and 2400-2001-3. These previous ID's reserved to the Chief the authority to approve certain road management activities and timber harvest in inventoried roadless areas.

• Scope and Scale of Roads Analysis. The other substantive revision of the road management policy in FSM Chapter 7710 is to clarify the local Responsible Official's discretion and flexibility to conduct roads analysis. While the January 2001 directive provided for discretion, many employees did not interpret the directive as allowing much flexibility. Therefore, FSM 7712.13 has been revised to make clearer the use of roads analysis at each of the various scales and the actions that are subject to roads analysis. Also, in response to field employee queries, examples of circumstances where roads analysis may not be necessary have been added to FSM 7712.13c. These include temporary roads for short-term access or a minor extension of a road into a forest campground. Additionally, Exhibit 01 of FSM 7712.13 has been modified to reflect the removal of the interim requirements from FSM Chapter 7710.

Regulatory Certifications

Regulatory Impact

This notice has been reviewed under USDA procedures and Executive Order 12866 on Regulatory Planning and Review. The Office of Management and Budget (OMB) has reviewed this notice and has determined it constitutes a significant action as defined by Executive Order 12866. ID No. 7710-2001-3 provides Service-wide direction to forest and regional personnel about analyzing, planning for, and managing the forest transportation system. ID No. 1920-2001-1 relocates interim requirements regarding inventoried roadless areas from FSM 7712 and FSM 2400 to Chapter 1920.

The costs and benefits of these Interim Directives are necessarily speculative. These directives revise a strategy that provides guidance for transportation planning, but does not dictate land management decisions. Therefore, the agency has chosen to perform a qualitative analysis. As with the effects identified in the Environmental Assessment, the costs and benefits associated with the revisions made by the Interim Directives fall within the range of the Cost-Benefit Analysis (Appendix E) prepared for the January 2001 policy. With the changes made by the Interim Directives, FS estimates that these Interim Directives will have an overall positive economic benefit compared to the January 2001 final policy. In the Environmental Assessment, the Cost-Benefit Analysis (Appendix E) cited a reduction in direct and total jobs as well as timber receipts as a result of the decrease in timber harvest and mineral exploration and extraction in inventoried roadless areas and contiguous unroaded areas as negative effects of the January 2001 policy. The costs of the January 2001 road management policy were based on estimates of miles of road to be constructed or reconstructed and loss of jobs associated with reduced timber harvest in inventoried roadless areas and contiguous unroaded areas. The Forest Service estimated that the eventual implementation of the preferred alternative/final road management strategy on all National Forests could result in an annual decrease in timber harvesting by as much as 170 million board feet, a decrease of 5 percent from current levels if no roads were constructed in any inventoried roadless or contiguous unroaded areas for the purpose of serving timber harvests. This represents a value of 1,039 direct jobs and 1,850 total jobs nationwide. However, in the January EA, it was pointed out that this level of impact was highly unlikely. Since the modified road management policy removes contiguous unroaded areas from the interim requirements, it will be even more unlikely that these levels of impacts would be reached. Additionally, dropping the mandatory requirement to prepare an Environmental Impact Statement (EIS) for all road management activities proposed in inventoried roadless areas and contiguous unroaded areas will eliminate needless expenditures of public resources in those cases where an EIS would not be appropriate.

Under the new Interim Directives, the values and characteristics of these contiguous unroaded areas will still be considered through the roads analysis process, NEPA analysis, and forest planning procedures. Consequently, the agency believes that these areas will not necessarily be at greater risk of road construction/reconstruction, or resource development than was the case when they were subject to the interim requirements of the January 2001 policy. Implementation of the final road management strategy as modified by these Interim Directives would still result in additional protection of watersheds and air resources; wildlife; fish; and threatened, endangered, and sensitive species. It would also still reduce access to some forest resources and the economic and social values associated with those resources. Thus, the impacts of these Directives would fall between the impacts described in the January 2001 Environmental Assessment and accompanying Cost-Benefit Analysis. However, while necessarily speculative, the Forest Service estimates the economic impacts under these Interim Directives will likely be less severe than the estimated impacts associated with the January 2001 policy.

These Interim Directives also have been considered in light of the Regulatory Flexibility Act (5 USC 601 et seq.). No direct or indirect financial impact on small businesses or other entities has been identified. Therefore, it is hereby certified that this action will not have a significant economic impact on a substantial number of small entities as defined by the Act.

Unfunded Mandates

Pursuant to Title II of the Unfunded Mandates Reform Act of 1995 (2 USC 1531-1538), the Department has assessed the effects of these Interim Directives on State, local, and Tribal governments, and on the private sector. These directives do not compel the expenditure of $100 million or more by any State, local, or Tribal government, or anyone in the private sector. Therefore, a statement under section 202 of the Act is not required.

Federalism

The agency has considered these Interim Directives under the requirements of Executive Order 13132, Federalism, and Executive Order 12875, Government Partnerships. The agency has made a preliminary assessment that the Directives conform with the federalism principles set out in these Executive Orders; would not impose any compliance costs on the States; and would not have substantial direct effects on the States, on the relationship between the national government and the States, or on the distribution of power and responsibilities among the various levels of government. Moreover, these directives address transportation and land management planning processes on National Forests, Grasslands or other units of the National Forest System, which do not directly affect the States. Based on comments received on these directives, the agency will consider if any additional consultation will be needed with State and local governments prior to adopting final directives.

Consultation and Coordination With Indian Tribal Governments

These Interim Directives do not have Tribal implications as defined in Executive Order 13175, Consultation and Coordination with Indian Tribal Governments, and, therefore, advance consultation with Tribes is not required.

Environmental Impact

Section 31.1(b) of Forest Service Handbook 1909.15 (57 FR 43180, September 18, 1992) excludes from documentation in an environmental impact statement “rules, regulations, or policies to establish service-wide administrative procedures, program processes, or instructions.” The Forest Service's assessment is that these new Interim Directives to the Forest Service Manual fall within this category of exclusion. However, the Forest Service elected to prepare an Environmental Assessment (EA) in association with development of the January 12, 2001, administrative policy. In that EA (issued January 2001), the Forest Service examined the potential environmental impacts associated with road policy in effect prior to January 12, 2001, (the “no action” alternative), the road management strategy as originally proposed in March 2000, and the final road management strategy ultimately adopted January 12, 2001. These impacts arose, for the most part, from the interim requirements associated with inventoried roadless areas and contiguous unroaded areas. They included both potential adverse and beneficial impacts to access and public safety; fire, insect, and disease management; timber harvesting and mineral resource development; recreational and non-recreational land uses; fish and wildlife; wilderness values; watershed and air; and social and economic effects.

Overall, the Forest Service expected that, under the final road management strategy analyzed in the EA, more miles of roads would be decommissioned and reconstructed than under the “no-action” alternative, and fewer miles of roads would be constructed than under the “no-action” alternative. Under the latest Interim Directives to FSM Chapters 1920 and 7710, more miles of roads could be constructed or reconstructed in unroaded areas contiguous to inventoried roadless areas than expected under the final road management strategy adopted in January 12, 2001, but there will still be less than the miles of roads than would be constructed or reconstructed under the “no action” alternative.

However, given the difficulty of identifying contiguous unroaded areas, the number of miles of road cannot be quantified. As a consequence of using the science-based roads analysis process, implementation of the final road management strategy as modified by these Interim Directives would still result in additional protection of watersheds and air resources; wildlife; fish; and threatened, endangered, and sensitive species. It would also reduce access to some forest resources and the economic and social values associated with those resources. Thus, the impacts of these new Interim Directives would fall between the impacts described in the January EA for the “no-action” alternative and those described for the final road management strategy.

Because the impacts would fall within the impacts described in the January Road Management Strategy EA, there is no need to modify or reissue the EA prior to issuing these Interim Directives. A new Finding of No Significant Impact (FONSI) has been prepared and is available on the Internet at www.fs.fed.us/news/roads, or by writing to the Director of Engineering at the address shown earlier in this notice.

Civil Justice Reform Act

The Interim Directives were reviewed under Executive Order 12988, Civil Justice Reform. The Interim Directives direct the work of Forest Service employees and are not intended to preempt any State and local laws and regulations that might be in conflict or that would impede full implementation of these Directives. The ID's would not retroactively affect existing permits, contracts, or other instruments authorizing the occupancy and use of National Forest System lands and would not require the institution of administrative proceedings before parties may file suit in court challenging these provisions.

Controlling Paperwork Burdens on the Public

The Interim Directive does not contain any record keeping or reporting requirements or other information collection requirements as defined in 5 CFR part 1320 and, therefore, impose no paperwork burden on the public. Accordingly, the review provisions of the Paperwork Reduction Act of 1995 (44 USC 3501, et seq.) and implementing regulations at 5 CFR part 1320 do not apply.

Energy Effects

The effects on energy supply and distribution resulting from these Interim Directives were reviewed under Executive Order 13211 of May 18. It was determined that removing the mandatory EIS requirement provisions in FSM 7712.16 will expedite access to oil and gas leases and other energy related projects in a few cases. Otherwise, no other effects were identified. Because these Directives do not significantly affect energy supply, distribution, or use, a Statement of Energy Effects is not required. Additionally, these Interim Directives are also consistent with the intent of the Executive Order 13212 of May 18, 2001, Actions to Expedite Energy Related Projects.

Conclusion

Following the issuance of the road management policy and the roadless area conservation rule on January 12, 2001, the Department and the agency have reviewed those documents to determine if there are impediments to implementation. ID No. 7710-2001-3 represents the culmination of the agency's internal reviews of these practices. With this action, interim requirements related to road construction and reconstruction in inventoried roadless areas are separated from the roads analysis direction and, instead, revised and relocated to a new section 1925 in FSM Chapter 1920—Land and Resource Management Planning. Additionally, ID No. 1920-2001-1 reflects the decision to remove “contiguous unroaded areas” from the scope of the interim requirements. In ID No. 7710-2001-3, FSM 7710.13 is revised to clarify the line officer's discretion and flexibility to determine the scope and scale of roads analysis needed to inform road management decisions. The May 31 Interim Directive also is incorporated into this new Interim Directive.

These ID's remove implementation impediments associated with the road management strategy and roadless area conservation. As a consequence, the agency can fulfill its commitment to improve decisionmaking associated with road construction, reconstruction, and decommissioning and its commitment to protect and conserve roadless areas.

Normally, when the agency determines that public notice and opportunity to comment are necessary on a Forest Service Manual revision, the agency publishes a proposed revision with a minimum 60-day comment period. The agency then considers the comments, makes any changes, drafts and publishes a final Federal Register notice explaining the final directive and the rationale for any changes. At a minimum, this process takes 6 months and usually takes 9-12 months. Such a delay in revising the road management policy would perpetuate uncertainty and confusion when undertaking decisions that involve road management activities. The agency could also incur environmental analysis costs that would be disproportionate to the potential effects in inventoried roadless areas and delay access to oil and gas leases, or other mining operations.

Consequently, the agency has elected to issue Interim Directives and to make them immediately effective. An Interim Directive expires 18 months from issuance and may be reissued only once for a total duration of 36 months. Thereafter, the direction must be incorporated into an amendment or allowed to expire.

In the meantime, public comment is invited and will be considered in adopting a final policy. The agency will consider all comments received in determining a final policy. Respondents should note that greater weight is given to original substantive comments than to post cards, forms, questionnaires, or duplicated letters or messages. Only the sections of FSM 7710 that are being revised are set out at the end of this notice along with the text of the roadless area Interim Directive No. 1920-2001-1. The full text of Chapter 7710 and 1920-2001-1 is available on the World Wide Web at http://www.fs.fed.us.directives. Single paper copies are available upon request from the address and phone numbers listed earlier in this notice as well as from the nearest National Forest Office or Regional Office, the location of which are also available on the headquarters homepage on the World Wide Web at http://www.fs.fed.us.

The agency recognizes that the issuance of five Interim Directives on roadless areas and road management may be confusing to the public. Had the agency been able to undertake and complete the overview of the road management policy before issuing the roadless area Interim Directives, the sequence of revision to agency policy would have flowed in a more understandable manner. However, roadless litigation on the roadless area conservation rule required the agency and the Department to address roadless areas first.

Charts are provided at the end of this notice to assist readers in tracking the various actions and modifications of the roadless area rule and the road management policy since January 12, 2001. The first chart is organized by policy or rule; the second, by date, in chronological order.

Comments received in response to Federal Register notices of earlier Interim Directives (ID No. 7700-2001-1, ID No. 7700-2001-2, 2400-2001-3) will be considered along with comments received on the Interim Directives that are the subject of this notice.

Dated: October 9, 2001.
Sally D. Collins,
Associate Chief.

Revisions to Forest Service Road Management Directives

Note: The Forest Service organizes its directive system by alphanumeric codes and subject headings. Only those sections of the Forest Service Manual that are the subject of this notice are set forth here. Those who wish to see the entire document in which the changes are being incorporated may do so at www.fs.fed.us/news/roads. In the directives that follow, Forest Service employees charged with decisionmaking responsibilities concerning the National Forest Transportation System are referred to as Responsible Officials and are the intended audience of these administrative directives.

FSM TITLE 7700—TRANSPORTATION SYSTEM

Chapter 7710—Transportation Atlas, Records, and Analysis

Interim Directive No. 7710-2001-3.

Effective Date: December 14, 2001.

Duration: 18 months from effective date.

Approved: SALLY D. COLLINS, Associate Chief.

7710.42 Regional Forester

It is the responsibility of the Regional Forester to:

1. Ensure that roads analysis is a component of sub-basin, multi-Forest, and sub-regional scale assessments.

2. Develop multi-year regional schedules of proposed transportation facility projects (FSM 1920).

3. Establish policy for traffic surveillance and classification to be used in transportation analysis (FSM 7731.5).

4. Coordinate State and Federal transportation involvement in land and resource management planning to ensure that their plans are included in land management policy development and that their policy development has the benefit of Forest plans.

5. To determine, on a case-by-case basis, whether or not to approve a Forest Supervisor request for additional time to complete a forest-scale roads analysis.

6. Oversee and evaluate the use of roads analysis process within the Region (FSM 7712.1).

* * * * *

7712.13 Scope and Scale of Roads Analysis

There are multiple scales at which roads analysis may be conducted to inform road management decisions. Generally, road management decisions should be informed by roads analysis at a broad scale. Accordingly, all units of the National Forest System must conduct a forest-scale roads analysis (FSM 7712.13b and FSM 7712.15).

The Responsible Official has the discretion and duty to determine whether or not a roads analysis below the forest-scale is needed and the degree of detail that is appropriate and practicable. Guidance on selecting the appropriate scale and those proposed actions which may trigger a need for a roads analysis is set forth in FSM 7712.13, paragraphs a-c.

* * * * *

7712.13c Roads Analysis at the Watershed and Project Scale

Roads analysis at the forest-scale will generally provide the context for informing road management decisions and activities at the watershed, area, and project level. Where a forest-scale roads analysis has been conducted, the Responsible Official must consider the decision(s) to be made and determine how to apply the results of the forest-scale roads analysis to best inform management decisions. However, it is generally expected that road inventories and road condition assessments as identified in FSM 7712.14 would be completed at the watershed or project scale, not the forest-scale.

When higher scale analyses are not available to inform a project decision, the Responsible Official must consider the decisions to be made (FSM 7712.13) and the potential environmental and access effects and determine whether or not additional analysis is needed at the watershed or project scale. Roads analysis below the forest-scale is not automatically required, but may be undertaken at the discretion of the Responsible Official. When the Responsible Official determines that additional analysis is not needed for a project, the Responsible Official must document the basis for that conclusion. Examples where roads analysis may not be necessary include: temporary roads for short-term access; or a minor extension of a campground road.

When proposed road management activities (road construction, reconstruction, and decommissioning) would result in changes in access, such as changes in current use, traffic patterns, and road standards, or where there may be adverse effects on soil and water resources, ecological processes, or biological communities, those decisions must be informed by roads analysis (FSM 7712.1). Site-specific projects may be informed by a watershed roads analysis, if the Responsible Official determines that the scope and scale of issues under consideration warrants such use. FSM 7712.13, exhibit 01, provides a snapshot of the scope and scale of roads analysis and its integration into planning and decisionmaking.

When needed, the outcomes of roads analysis at the watershed and area-scale would result, at a minimum, in the following:

1. Identification of needed and unneeded roads.

2. Identification of road associated environmental and public safety risks.

3. Identification of site-specific priorities and opportunities for road improvements and decommissioning.

4. Identification of areas of special sensitivity, unique resource values, or both.

5. Any other specific information that may be needed to support project-level decisions.

* * * * *

7712.15 Deadlines for Completing Roads Analyses

1. Analysis Needed to Inform Road Management Decisions. Section 7712.13 identifies proposed road management decisions other than forest plan revisions or amendments that require roads analysis and provides guidance on the scope and scale of various levels of analysis that might inform those decisions. The following deadlines govern the application of roads analysis to the proposed road management decisions identified in sections 7712.13 through 7712.13c:

a. Decisions made before January 12, 2002, do not require a roads analysis.

b. Decisions made after January 12, 2002, must be informed by a roads analysis, except as provided in FSM 7712.13c.

2. Forest-Scale Roads Analyses. Every National Forest System administrative unit must have a forest-scale roads analysis completed by January 13, 2003, except as follows:

a. Those units that will complete a forest plan revision or amendment by January 12, 2002, do not need to complete a forest-scale roads analysis (FSM 7712.1) prior to adopting the plan revision or amendment. However, these units are still required to complete a forest-scale roads analysis by January 13, 2003.

b. Those units that have begun revision or amendment of their forest plans but will not adopt a final revision or final amendment by January 12, 2002, must complete a roads analysis prior to adoption of the final plan revision or amendment.

c. Where additional time is needed for completion of forest-scale roads analysis, a Forest Supervisor may request approval from the Regional Forester for an extension. In making such a request, the Forest Supervisor must provide a statement of the reason(s) the extension is needed.

Inventoried Roadless Areas

FSM TITLE 1900—PLANNING

Chapter 1920—Land and Resource Management Planning

Interim Directive No. 1920-2001-1.

Effective Date: December 14, 2001.

Duration: 18 months from effective date.

Approved: SALLY D. COLLINS, Associate Chief.

FSM 1925—Management of Inventoried Roadless Areas

1925.03 Policy

Inventoried roadless areas contain important environmental values that warrant protection. Accordingly, until a forest-scale roads analysis (FSM 7712.13b) is completed and incorporated into a forest plan, inventoried roadless areas shall, as a general rule, be managed to preserve their roadless characteristics. However, where a line officer determines that an exception may be warranted, the decision to approve a road management activity or timber harvest in these areas is reserved to the Chief or the Regional Forester as provided in FSM 1925.04a and 1925.04b.

1925.04 Responsibility

1925.04a Chief

The Chief reserves the following:

1. The authority to approve or disapprove road construction or reconstruction in inventoried roadless areas (FSM 1925.05) except those decisions delegated to the Regional Foresters at FSM 1925.04b, paragraph 1.

This reservation remains in effect until a forest-scale roads analysis is completed and incorporated into each forest plan (FSM 7712.13b). When an inventoried roadless area road construction, road reconstruction, or timber harvest decision falls under the Chief's authority, the Chief, for purposes of administrative efficiency and timeliness, may designate, on a case-by-case basis by official memorandum, the Associate Chief, a Deputy Chief, or an Associate Deputy Chief to serve as the Responsible Official.

2. The authority to approve or disapprove proposed timber harvest in inventoried roadless areas, except for the following:

a. The timber is generally small-diameter material and the removal of timber is needed for one of the following purposes:

(1) To improve habitat for listed or proposed threatened and endangered species, or for sensitive species (FSM 2670), or

(2) To maintain or restore the desirable characteristics of ecosystem composition and structure, for example, to reduce the risk of uncharacteristic wildfire effects.

b. The cutting, sale, or removal of timber is incidental to the implementation of a management activity and not otherwise prohibited under the land and resource management plan.

c. The cutting, sale, or removal of timber is needed and appropriate for personal or administrative use as provided for in part 223 of Title 36 of the Code of Federal Regulations (36 CFR Part 223).

d. The harvest is in a portion of an inventoried roadless area where construction of a classified road and subsequent timber harvest have previously taken place, and the roadless area characteristics have been substantially altered by those activities.

This reservation applies until revision of a land and resource management plan or adoption of a plan amendment that has considered the protection and management of inventoried roadless areas (FSM 1923). If a Record of Decision for a Forest Plan revision has been issued as of July 27, 2001, the requirement for the Chief's review does not apply. By official memorandum, the Chief may designate, on a case-by-case basis, the Associate Chief, a Deputy Chief, or an Associate Deputy Chief to serve as the Responsible Official.

The delegation of authority to approve or disapprove the timber harvest projects described in preceding paragraphs a through d; remain unchanged by this Interim Directive (FSM 2404.2).

1925.04b Regional Forester

It is the responsibility of the Regional Forester to:

1. Serve as the Responsible Official for any of the following decisions on a road construction or reconstruction project in an inventoried roadless area:

a. A road is needed to protect public health and safety in cases of an imminent threat of flood, fire, or other catastrophic event, that without intervention would cause the loss of life or property.

b. A road is needed to conduct a response action under the Comprehensive Environmental Response, Compensation, and Liability Act (CERCLA) or to conduct a natural restoration action under CERCLA, section 311 of the Clean Water Act, or Oil Pollution Act.

c. Road construction is needed in conjunction with the continuation, extension, or renewal of a mineral lease on lands that are under lease by the Secretary of the Interior as of January 12, 2001.

d. Road access is needed pursuant to reserved or outstanding rights or as provided by statute or treaty.

e. A road is needed for critical resource restoration and protection.

f. Road realignment is needed to prevent resource damage by an existing road that is deemed essential for public or private access, management, or public health or safety, and where such damage cannot be corrected by maintenance.

g. A road is needed to restore wildlife habitat.

2. Review and determine whether to recommend to the Chief a decision for any road construction or reconstruction project in an inventoried roadless area within the Chief's decision authority (sec. 1925.04a, para. 1).

3. For road construction, reconstruction, and timber management projects in inventoried roadless areas where it has been determined that an environmental impact statement EIS is required, review and agree to the purpose and need statements for the notice of intent to prepare an (EIS).

4. Review and determine whether to recommend to the Chief a decision for any timber harvest project in inventoried roadless areas within the Chief's decision authority (sec. 1925.04a, para. 2).

1925.05 Definitions

Inventoried Roadless Areas. Those areas identified in a set of inventoried roadless area maps, contained in Forest Service Roadless Area Conservation, Final Environmental Impact Statement, Volume 2, dated November 2000, which are held at the National headquarters of the Forest Service, or any update, correction, or revision of those maps.

BILLING CODE 3410-11-P

[FR Doc. 01-31276 Filed 12-19-01; 8:45 am]

BILLING CODE 3410-11-C